DEPARTMENT OF LABOR

Office of the Assistant Secretary for Administration and Management; Public Availability of Department of Labor FY 2016 Service Contract Inventory

AGENCY: Office of the Assistant Secretary for Administration and Management, Labor.

ACTION: Notice of public availability of FY 2016 Service Contract Inventories.

SUMMARY: In accordance with Section 743 of Division C of the Consolidated Appropriations Act of 2010 (Pub. L. 111-117), the Department of Labor (DOL) is publishing this notice to advise the public of the availability of its FY 2016 Service Contract Inventory. This inventory provides information on service contract actions over $25,000 made in FY 2016. The information is organized by function to show how contracted resources are distributed throughout the agency. The inventory has been developed in accordance with guidance issued on November 5, 2010, by the Office of Management and Budget's Office of Federal Procurement Policy (OFPP).

OFPP's guidance is available at: https://obamawhitehouse.archives.gov/sites/default/files/omb/procurement/memo/service-contract-inventories-guidance-11052010.pdf. The Department of Labor has posted its inventory and a summary of the inventory on the agency's Web site at the following link: https://www.dol.gov/general/aboutdol#budget.

FOR FURTHER INFORMATION CONTACT: Questions regarding the service contract inventory should be directed to Ngozi Ofili in the DOL/Office of Procurement Policy at (202) 693-7247 or ofili.ngozi.e@dol.gov.

Dated: September 29, 2017.
Edward C. Hugler,
Deputy Assistant Secretary for Administration and Management.

[FR Doc. 2017-22611 Filed 10-17-17; 8:45 am]

BILLING CODE 4510-04-P